DEPARTMENT OF TRANSPORTATION

Federal Aviation Administration

14 CFR Part 25

Proposed Changes and Advisory Circular 25.1322

AGENCY: Federal Aviation Administration (FAA), DOT.

ACTION: Notice of availability of Aviation Rulemaking Advisory Committee (ARAC) recommendations.

SUMMARY: The Federal Aviation Administration (FAA) announces the availability of the ARAC-recommended proposed flight crew alerting, and the proposed Advisory Circular (AC) 25.1322, “Flight Crew Alerting,” for potential use, upon request, in the certification of applicable airplane systems. The FAA has not yet adopted these ARAC recommendations.

FOR FURTHER INFORMATION CONTACT: Mr. Loran Haworth, Federal Aviation Administration, Transport Airplane Directorate, Transport Standards Staff, Airplane and Flight Crew Interface Branch, ANM-111, 1601 Lind Avenue SW., Renton, WA 98055-4056; telephone (425) 227-1133; fax (425) 227-1320; e-mail: Loran.Haworth@faa.gov.

SUPPLEMENTARY INFORMATION: Reference: FAA policy memorandum 00-113-1034 “Use of ARAC (Aviation Rulemaking Advisory Committee) Recommended Rulemaking not yet formally adopted by the FAA, as a basis for equivalent level of safety or exemption to Part 25.”

This policy memorandum describes a standardized, streamlined approach for the use of draft FAA/Joint Aviation Authorities (JAA) harmonized regulations as a basis for an equivalent level of safety finding or an exemption to part 25. It may be found on the Internet at the following Web site address: http://www.airweb.faa.rgl.

Background

After a multi-year review of the current § 25.1322 and creation of the proposed AC 25.1322, the ARAC submitted to the FAA their recommendations for a rule change and the proposed advisory circular in May 2004. The ARAC-recommended proposed changes to 14 CFR 25.1322 and the newly proposed AC 25.1322 are available on the Internet at the following Web site address: http://www.faa.gov/avr/arm/arac/aractasks/aracavsysrecommendation4.cfm?nav=6&task=2. If you do not have access to the Internet, you can obtain a copy of the policy by contacting the person listed under FOR FURTHER INFORMATION CONTACT.

The procedure for using ARAC recommendations for rule changes that are not yet adopted by the FAA is described in the FAA policy memorandum 00-113-1034 referenced above. The memorandum describes the process for requesting an equivalent safety finding, as well as petitioning for an exemption.

Issued in Renton, Washington, on May 18, 2004.
Kevin Mullin,
Acting Manager, Transport Airplane Directorate, Aircraft Certification Service.

[FR Doc. 04-11896 Filed 5-25-04; 8:45 am]

BILLING CODE 4910-13-M